DEPARTMENT OF COMMERCE

National Oceanic and Atmospheric Administration

Federal Consistency Appeal by Millennium Pipeline Company From an Objection by the New York Department of State

AGENCY: National Oceanic and Atmospheric Administration (NOAA), Department of Commerce (Commerce).

ACTION: Notice of extension of time—administrative appeal decision.

SUMMARY: This notice announces that the due date for a decision of an administrative appeal filed with the Department of Commerce by the Millennium Pipeline Company (Consistency Appeal of Millennium Pipeline Company, L.P.) has been extended.

DATES: A decision for the Millennium Pipeline Company's administrative appeal is to be issued no later than December 15, 2003.

ADDRESSES: Materials from the appeal record are available at the Internet site http://www.ogc.doc.gov/czma.htm and at the Office of the General Counsel for Ocean Services, National Oceanic and Atmospheric Administration, U.S. Department of Commerce, 1305 East-West Highway, Silver Spring, MD 20910.

FOR FURTHER INFORMATION CONTACT: Branden Blum, Senior Counselor, Office of the General Counsel for Ocean Services, via e-mail at gcos.inquiries@noaa.gov, or at 301-713-2967, extension 186.

SUPPLEMENTARY INFORMATION: This notice announces an extension of the 90-day deadline for issuing a final decision of an administrative appeal filed by the Millennium Pipeline Company, L.P. (Millennium) pursuant to the Coastal Zone Management Act of 1972 (CZMA), as amended, 16 U.S.C. 1451 et seq. The appeal was taken from an objection by the New York Department of State to Millennium's proposed natural gas pipeline project that would span approximately 420 miles from the U.S. Canada border to a terminus outside of New York City.

A Federal Register notice published on August 4, 2003, triggered the start of the 90-day decision period for this appeal. As indicated by that notice, the deadline may be extended before the end of the 90 day period, one time, by up to 45 days. See 16 U.S.C. 1465. Taking account of the extension, the deadline for a decision in the Millennium appeal is now December 15, 2003. See 16 U.S.C. 1465(b). The enlargement will provide time to more fully consider and address the complex issues presented by the Millennium appeal.

Additional information about the Millennium appeal, including a copy of the Federal Register notice announcing the closure of the Millennium appeal decision record, is available at the Department of Commerce CZMA appeals Web site, http://www.ogc.doc.gov/czma.htm.

(Federal Domestic Assistance Catalog No. 11.419 Coastal Zone Management Program Assistance)
Dated: October 23, 2003.
James R. Walpole,
General Counsel.

[FR Doc. 03-27221 Filed 10-30-03; 8:45 am]

BILLING CODE 3510-08-P